DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before August 7, 2014.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: Sheila McConnell, Acting Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2014-020-C.

Petitioner: McElroy Coal Company, 57 Goshorn Woods Rd., Cameron, West Virginia 26033.

Mine: McElroy Mine, MSHA I.D. No. 46-01437, located in Marshall County, West Virginia.

Regulation Affected: 30 CFR 75.1700 (Oil and gas wells).

Modification Request: The petitioner requests a modification of the existing standard to permit an alternative method of compliance with the standard with respect to vertical Coal Bed Methane (CBM) degasification wells with horizontal laterals into the underground coal seam. The petitioner proposes to plug vertically drilled CBM degasification wells before mining through the wells.

The petitioner states that MSHA Policy Information Bulletin (PIB) No. P08-20 regarding “Surface Drilled Coalbed Methane Wells with Horizontal Branches in the Coal Seam” supports and encourages CBM extraction because it can significantly reduce methane emissions in coal mines and has been proved to decrease the incidence of face ignitions in gassy coal mines. The PIB recognizes that procedures to address the potential hazards presented by CBM wells must be developed and implemented to protect the coal miners who will be exposed to these wells.

a. The petitioner proposes to use the following plugging procedures:

(1) Prior to the anticipated mine-through, the borehole will be filled with cementitious grout, polyurethane grout, silica gel, flexible gel, or another material approved by the District Manager (DM).

(2) A packer will be installed at a location in the borehole to ensure that an appropriate amount of the borehole is filled with the plugging material.

(3) Any water present in the borehole will be tested for chlorides prior to plugging.

(4) A pump will be used to pump 1.75 times the calculated hole-volume of the plugging material into the borehole. The calculated volume of the plugging material will be pumped until the volume of the plugging material is depleted, 100-140 pounds per square inch (psi) pressure is realized, or until leakage is observed underground. The plugging material will be pumped through a packer equipped with a one-way check valve. The one-way check valve will prevent the plugging material from flowing back.

(5) The volume of fill material required will be calculated and 1.75 times that amount will be pumped unless the 100-140 psi pressure is reached.

(6) A directional deviation survey completed during the drilling of the borehole will be used to determine the location of the borehole within the coal seam.

(7) Where suitable plugging procedures have not been developed or are impractical, water infusion and ventilation of vertical CBM wells with horizontal laterals may be used in lieu of plugging.

b. The petitioner proposes to use the following procedures when using water and ventilation to mine through CBM wells with horizontal laterals:

(1) At least 2 days before intersecting the well, the well will be filled with water to at least 100 feet above the coal seam in which the CBM well with horizontal laterals is located. This level will be maintained until the well is intersected. As an alternative, after an in-mine horizontal borehole has been drilled in close proximity to the well, the mine supply water system will be connected to the in-mine horizontal borehole and the in-mine borehole will be pressurized.

(2) When a CBM well or lateral is intersected and the area deemed safe, the mining will proceed far enough to establish roof support in the area of the cut-through, and packers of appropriate pressure rating will be inserted into both sides of the cut-through. After the packers are inserted they will be inflated and all valves will be closed.

(3) After the well is intersected and the water is drained from the wellbore, a vacuum pump will be attached to the well head on the surface and started to provide negative pressure to the well head side of the cut-through. The adjacent side of the cut-through will be put on negative pressure by use of a vacuum pump on the surface attached to the underground degas system that was drilled in close proximity of the CBM. Should the intersected CBM build pressure later, the packers will be attached to the underground degas system and vented to the surface until this portion of the hole is plugged.

(4) If the hole can continue to be ventilated with mine atmosphere to the surface via a vacuum pump on the surface, plugging will not be necessary. If no system is in place underground to carry the gas to the surface, the holes will be plugged as soon as the continuous mining equipment is moved to the next portion of the cycle and no longer interferes with the plugging process.

(5) If mining continues parallel to the intersected hole or the hole continues to be intersected by the longwall, the hole will be plugged with cement grout, flexible gel or other method approved by the DM, or if mining down dip, the hole will be filled with water.

c. The petitioner proposes to use the following procedures for mining through a CBM degasification well with horizontal laterals:

(1) The operator will notify the DM or designee prior to mining within 300 feet of the well and when a specific plan is developed for mining through each well.

(2) The DM or designee, representative of the miners, and the appropriate State agency will be notified by the operator in sufficient time prior to the mining-through operation to have an opportunity to have representatives present.

(3) When using the continuous mining method, drivage sights will be installed at the last open crosscut near the place to be mined to ensure intersection of the well. The drivage sights will not be more than 250 feet from the well. When using the longwall mining method, drivage sights will be installed on 10-foot centers 50 feet in advance of the initial anticipated intersection of the well. The drivage sights will be installed in both the headgate and tailgate entry.

(4) Firefighting equipment, including fire extinguishers, rock dust and enough fire hose to reach the well location on the working face will be available near the working place.

(5) Sufficient supplies of roof support and ventilation materials will be available near the working place.

(6) The quantity of air required by the approved ventilation system and methane and dust control plan will be used to ventilate the working face or the longwall face during the mining-through operation.

(7) Equipment will be checked for permissibility and serviced on the shift prior to mining through the well.

(8) The methane monitor on the longwall or continuous mining machine will be calibrated on the shift prior to mining through the well.

(9) When mining is in progress, tests for methane will be made with a hand-held methane detector at least every 10 minutes from the time mining with the continuous mining machine is within 30 feet of the well until the well is intersected and immediately prior to mining through or the resumption of mining after a well is intersected. When mining with longwall mining equipment, the tests for methane will be made at least every 10 minutes when the longwall face is within 10 feet of the well.

(10) When using continuous mining methods, the working place will be free from accumulations of coal dust and coal spillages, and rock dust will be placed on the roof and rib to within 20 feet of the face when mining through the well.

(11) When the wellbore is intersected, all equipment will be deenergized and the place thoroughly examined and determined safe before mining is resumed. Any well casing will be removed and no open flame will be permitted in the area until adequate ventilation has been established around the wellbore.

(12) After a well has been intersected and the working place determined safe, mining will continue inby the well at a sufficient distance to permit adequate ventilation around the area of the wellbore.

(13) No person will be permitted in the area of the mining-through operation, inby the last open crosscut except those actually engaged in the operation, company personnel, representatives of the miners, MSHA personnel and personnel from the appropriate State agency.

(14) The mining-through operation will be under the direct supervision of a certified official. Instructions concerning the mining-through operation will be issued only by the certified official in charge.

The petitioner asserts that the proposed alternative method will provide the same measure of protection as that afforded by the existing standard.

Docket Number: M-2014-021-C.

Petitioner: Consolidation Coal Company, RD 1 Box 62A, Dallas, West Virginia 26036.

Mine: Shoemaker Mine, MSHA I.D. No. 46-01436, located in Marshall County, West Virginia.

Regulation Affected: 30 CFR 75.1700 (Oil and gas wells).

Modification Request: The petitioner requests a modification of the existing standard to permit an alternative method of compliance with the standard with respect to vertical Coal Bed Methane (CBM) degasification well with horizontal laterals into the underground coal seam. The petitioner proposes to plug vertically drilled CBM degasification wells to mine through them.

The petitioner states that MSHA Policy Information Bulletin (PIB) No. P08-20 regarding “Surface Drilled Coalbed Methane Wells with Horizontal Branches in the Coal Seam” supports and encourages CBM extraction because it can significantly reduce methane emissions in coal mines and has been proved to decrease the incidence of face ignitions in gassy coal mines. The PIB recognizes that procedures to address the potential hazards presented by CBM wells must be developed and implemented to protect the coal miners who will be exposed to these wells.

a. The petitioner proposes to use the following plugging procedures:

(1) Prior to the anticipated mine-through, the borehole will be filled with cementitious grout, polyurethane grout, silica gel, flexible gel, or another material approved by the District Manager (DM).

(2) A packer will be installed at a location in the borehole to ensure that an appropriate amount of the borehole is filled with the plugging material.

(3) Any water present in the borehole will be tested for chlorides prior to plugging.

(4) A pump will be used to pump 1.75 times the calculated hole-volume of the plugging material into the borehole. The calculated volume of the plugging material will be pumped until the volume of the plugging material is depleted, 100-140 pounds per square inch (psi) pressure is realized, or until leakage is observed underground. The plugging material will be pumped through a packer equipped with a one-way check valve. The one-way check valve will prevent the plugging material from flowing back.

(5) The volume of fill material required will be calculated and 1.75 times that amount will be pumped unless the 100-140 psi pressure is reached.

(6) A directional deviation survey completed during the drilling of the borehole will be used to determine the location of the borehole within the coal seam.

(7) Where suitable plugging procedures have not been developed or are impractical, water infusion and ventilation of vertical CBM wells with horizontal laterals may be used in lieu of plugging.

b. The petitioner proposes to use the following procedures when using water and ventilation to mine through CBM wells with horizontal laterals:

(1) At least 2 days before intersecting the well, the well will be filled with water to at least 100 feet above the coal seam in which the CBM well with horizontal laterals is located. This level will be maintained until the well is intersected. As an alternative, after an in-mine horizontal borehole has been drilled in close proximity to the well, the mine supply water system will be connected to the in-mine horizontal borehole and the in-mine borehole will be pressurized.

(2) When a CBM well or lateral is intersected and the area deemed safe, the mining will proceed far enough to establish roof support in the area of the cut-through, and packers of appropriate pressure rating will be inserted into both sides of the cut-through. After the packers are inserted they will be inflated and all valves will be closed.

(3) After the well is intersected and the water is drained from the wellbore, a vacuum pump will be attached to the well head on the surface and started to provide negative pressure to the well head side of the cut-through. The adjacent side of the cut-through will be put on negative pressure by use of a vacuum pump on the surface attached to the underground degas system that was drilled in close proximity of the CBM. Should the intersected CBM build pressure later, the packers will be attached to the underground degas system and vented to the surface until this portion of the hole is plugged.

(4) If the hole can continue to be ventilated with mine atmosphere to the surface via a vacuum pump on the surface, plugging will not be necessary. If no system is in place underground to carry the gas to the surface, the holes will be plugged as soon as the continuous mining equipment is moved to the next portion of the cycle and no longer interferes with the plugging process.

(5) If mining continues parallel to the intersected hole or the hole continues to be intersected by the longwall, the hole will be plugged with cement grout, flexible gel or other method approved by the DM, or if mining down dip, the hole will be filled with water.

c. The petitioner proposes to use the following procedures for mining through a CBM degasification well with horizontal laterals:

(1) The operator will notify the DM or designee prior to mining within 300 feet of the well and when a specific plan is developed for mining through each well.

(2) The DM or designee, representative of the miners, and the appropriate State agency will be notified by the operator in sufficient time prior to the mining-through operation to have an opportunity to have representatives present.

(3) When using the continuous mining method, drivage sights will be installed at the last open crosscut near the place to be mined to ensure intersection of the well. The drivage sights will not be more than 250 feet from the well. When using the longwall mining method, drivage sights will be installed on 10-foot centers 50 feet in advance of the initial anticipated intersection of the well. The drivage sights will be installed in both the headgate and tailgate entry.

(4) Firefighting equipment, including fire extinguishers, rock dust and enough fire hose to reach the well location on the working face will be available near the working place.

(5) Sufficient supplies of roof support and ventilation materials will be available near the working place.

(6) The quantity of air required by the approved ventilation system and methane and dust control plan will be used to ventilate the working face or the longwall face during the mining-through operation.

(7) Equipment will be checked for permissibility and serviced on the shift prior to mining through the well.

(8) The methane monitor on the longwall or continuous mining machine will be calibrated on the shift prior to mining through the well.

(9) When mining is in progress, tests for methane will be made with a hand-held methane detector at least every 10 minutes from the time mining with the continuous mining machine is within 30 feet of the well until the well is intersected and immediately prior to mining through or the resumption of mining after a well is intersected. When mining with longwall mining equipment, the tests for methane will be made at least every 10 minutes when the longwall face is within 10 feet of the well.

(10) When using continuous mining methods, the working place will be free from accumulations of coal dust and coal spillages, and rock dust will be placed on the roof and rib to within 20 feet of the face when mining through the well.

(11) When the wellbore is intersected, all equipment will be deenergized and the place thoroughly examined and determined safe before mining is resumed. Any well casing will be removed and no open flame will be permitted in the area until adequate ventilation has been established around the wellbore.

(12) After a well has been intersected and the working place determined safe, mining will continue inby the well at a sufficient distance to permit adequate ventilation around the area of the wellbore.

(13) No person will be permitted in the area of the mining-through operation, inby the last open crosscut except those actually engaged in the operation, company personnel, representatives of the miners, MSHA personnel and personnel from the appropriate State agency.

(14) The mining-through operation will be under the direct supervision of a certified official. Instructions concerning the mining-through operation will be issued only by the certified official in charge.

The petitioner asserts that the proposed alternative method will provide the same measure of protection as that afforded by the existing standard.

Sheila McConnell,
Acting Director, Office of Standards, Regulations and Variances.

[FR Doc. 2014-15860 Filed 7-7-14; 8:45 am]

BILLING CODE 4510-43-P